NATIONAL FOUNDATION ON THE ARTS AND THE HUMANITIES

Institute of Museum and Library Services

Submission for OMB Review, Comment Request, Proposed Collection: Museum Application Program (MAP) Application

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. By this notice, IMLS is soliciting comments concerning the forms and instructions for the program application for the Museum Assessment Program for the next three years.

A copy of the proposed information collection request can be obtained by contacting the individual listed below in the ADDRESSES section of this notice.

DATES: Comments must be submitted to the office listed in the CONTACT section below on or before February 28, 2019.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718, Fax: 202-653-4608, or by email at swebb@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to transform the lives of individuals and communities. To learn more, visit www.imls.gov.

Current Actions: The Museum Assessment Program (MAP) is a technical assistance program that can help a museum attain excellence in operations and planning, through a confidential process of self-study and peer review. For over 30 years, MAP has helped over 5,000 small and mid-sized museums of all types through a confidential, consultative process of self-study and a site visit from an expert peer reviewer over one year. MAP helps museums strengthen operations, plan for the future and meet standards. MAP is currently administered by the American Alliance of Museums (Alliance) and supported through a cooperative agreement with the Institute of Museum and Library Services (IMLS).

This action is to create the forms and instructions for the program application for the Museum Assessment Program for the next three years.

Agency: Institute of Museum and Library Services.

Title: Museum Assessment Program Application.

OMB Number: 3137-0101.

Frequency: Once a year.

Affected Public: Museum staff.

Number of Respondents: 124.

Estimated Average Burden per Response: 7 hours.

Estimated Total Annual Burden: 868 hours.

Total Annualized capital/startup costs: n/a.

Total Annual costs: $23,784.

Dated: January 28, 2019.
Kim Miller,
Grants Management Specialist, Office of Grants Policy and Management.

[FR Doc. 2019-00544 Filed 1-31-19; 8:45 am]

BILLING CODE 7036-01-P